Proclamation 10307 of November 12, 2021

National Apprenticeship Week, 2021

By the President of the United States of America

A Proclamation

For decades, Registered Apprenticeships have been a reliable pathway to the middle class. Apprenticeships train workers for good jobs and allow them to earn while they learn. These educational experiences are especially important for workers who did not attend college, as they provide these workers with the type of specialized training needed for the jobs of today and tomorrow. During National Apprenticeship Week, we highlight how this quality industry and worker-driven training model provides a critical talent pipeline and a means to strengthen our workforce and address our Nation's pressing challenges—from rebuilding our country's infrastructure to protecting against cybersecurity threats.

As we build our economy back better and continue to fight the COVID-19 pandemic, we have seen the especially important role apprenticeships play in providing training to workers looking to re-enter the workforce and young people who are seeking to enter the work force—in each case providing an opportunity to train and develop the skills needed for jobs of the future while earning a good income.

My Administration supports the expansion of Registered Apprenticeships and the pathways they create to good jobs and union representation. That is why I rescinded an Executive Order that undermined Registered Apprenticeship programs by promoting less rigorous industry-recognized apprenticeships. To strengthen the voice of our workers who have been central to rebuilding our economy, my Administration reinstated the longstanding National Advisory Committee on Apprenticeships. Since apprenticeships are central to supporting the investments made in the American Rescue Plan and the Build Back Better Agenda, I have proposed we invest in high-quality job training and Registered Apprenticeships in fast-growing sectors like health care, child care, advanced manufacturing, information technology, and clean energy so that every American receives the skills required by employers for good, middle-class union jobs.

My Administration also recently awarded nearly $100 million in State Apprenticeship Expansion, Equity and Innovation grants to bolster States' efforts to expand programming and inclusive recruitment strategies. These grants also aim to develop partnerships that ensure we have a workforce ready to staff new industries and non-traditional occupations, including industry sectors hit hardest by the pandemic. To facilitate the expansion of Registered Apprenticeship programs, provide technical assistance to these programs, and help small- and medium-sized firms establish Registered Apprenticeships, we also invested nearly $31 million through cooperative agreements to establish four Registered Apprenticeship Technical Assistance Centers of Excellence. The centers will also work with public and private sector partners to expand opportunities in Registered Apprenticeship programs for women, youths, people of color, rural communities, justice-involved individuals, and people with disabilities. The centers are the culmination of a longstanding commitment to expand access to apprenticeships for traditionally underrepresented groups of workers and build on existing strategies that include the Women in Apprenticeship and Non-Traditional Occupations (WANTO) grant program, now in its 27th year.

During National Apprenticeship week, we also commit to ensuring that people from populations that have been historically underserved, marginalized, and adversely affected by persistent discrimination, poverty, and inequality have an opportunity to participate in the workforce. In particular, given the historic underrepresentation of women in apprenticeship programs and the impact of the pandemic on women's labor force participation, there is even greater urgency to support women's participation in Registered Apprenticeships.

Together, and with strengthened Registered Apprenticeships, we can build an even more successful, competitive, and diverse workforce.

NOW, THEREFORE, I, JOSEPH R. BIDEN JR., President of the United States of America, by virtue of the authority vested in me by the Constitution and the laws of the United States of America, do hereby proclaim November 14 through November 20, 2021, as National Apprenticeship Week. I urge the Congress, State and local governments, educational institutions, industry and labor leaders, apprentices, and all Americans to support Registered Apprenticeship programs in the United States of America and to raise awareness of their importance in building a diverse and robust workforce to strengthen our national economy.

IN WITNESS WHEREOF, I have hereunto set my hand this twelfth day of November, in the year of our Lord two thousand twenty-one, and of the Independence of the United States of America the two hundred and forty-sixth.

[FR Doc. 2021-25191

Filed 11-16-21; 8:45 am]

Billing code 3395-F2-P